DEPARTMENT OF COMMERCE

International Trade Administration

[A-533-912]

Final Affirmative Determination in the Less-Than-Fair-Value Investigation of Certain Non-Refillable Steel Cylinders From India

AGENCY: Enforcement and Compliance, International Trade Administration, Department of Commerce.

SUMMARY: The U.S. Department of Commerce (Commerce) determines that certain non-refillable steel cylinders (cylinders) from the India are being, or are likely to be, sold in the United States at less than fair value (LTFV). The period of investigation (POI) is April 1, 2022, through March 31, 2023.

DATES: Applicable April 22, 2024.

FOR FURTHER INFORMATION CONTACT: Benito Ballesteros or Samuel Evans, AD/CVD Operations, Office IX, Enforcement and Compliance, International Trade Administration, U.S. Department of Commerce, 1401 Constitution Avenue NW, Washington, DC 20230; telephone: (202) 482-7425 or (202) 482-2420, respectively.

SUPPLEMENTARY INFORMATION:

Background

Commerce selected two companies, Bhiwadi Cylinders Pvt. Ltd./Sapphire (India) Pvt. Ltd. (collectively Bhiwadi/Sapphire) ¹ and Inox India Limited (Inox) as the mandatory respondents, in this investigation. On December 1, 2023, Commerce published in the Federal Register the Preliminary Determination, in which it also postponed the final determination until not later than 135 days after the date of publication of the Preliminary Determination (i.e., April 15, 2024).² We invited parties to comment on the Preliminary Determination.

¹ Commerce determined that it was appropriate to collapse Bhiwadi and Sapphire and treat these companies as a single entity. See Memorandum, “Preliminary Determination Affiliation and Single Entity Memorandum,” dated November 24, 2023.

² See Certain Non-Refillable Steel Cylinders from India: Preliminary Affirmative Determination of Sales at Less Than Fair Value, Postponement of Final Determination, and Extension of Provisional Measures, 88 FR 83906 (December 1, 2023) (Preliminary Determination), and accompanying Preliminary Decision Memorandum (PDM).

In March 2024, we received case briefs from Worthington Industries (the petitioner) and Bhiwadi/Sapphire,³ and rebuttal briefs from the petitioner, Bhiwadi/Sapphire, and Inox.⁴ For a complete description of the events that occurred since the Preliminary Determination, see the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

³ See Petitioner's Letter, “Petitioner's Case Brief for Inox India, Ltd,” dated March 20, 2024; Petitioner's Letter, “Petitioner's Case Brief for Bhiwadi Cylinders Private Limited,” dated March 20, 2024; and Bhiwadi/Sapphire's Letter, “Bhiwadi's Revised Case Brief,” dated March 26, 2024.

⁴ See Petitioner's Letter, “Petitioner's Rebuttal Brief for Bhiwadi Cylinders Private Limited,” dated March 26, 2024; Bhiwadi/Sapphire's Letter, “Bhiwadi's Rebuttal Case Brief,” dated March 26, 2024; and Inox's Letter, “Rebuttal Brief,” dated March 26, 2024.

⁵ See Memorandum, “Decision Memorandum for the Final Affirmative Determination in the Less-Than-Fair-Value Investigation of Certain Non-Refillable Steel Cylinders from India,” dated concurrently with, and hereby adopted by, this notice (Issues and Decision Memorandum).

Scope of the Investigation

The merchandise covered by the scope of this investigation is cylinders from India. For a complete description of the scope of this investigation, see Appendix I.

Scope Comments

No interested party commented on the scope of the investigation as it appeared in the Preliminary Determination. Therefore, no changes were made to the scope of the investigation.

Verification

Commerce conducted verification of the information relied upon in making its final determination in this investigation, in accordance with section 782(i) of the Tariff Act of 1930, as amended (the Act). Specifically, we conducted on-site verifications of Bhiwadi/Sapphire and Inox in December 2023 and January 2024 using standard verification procedures, including an examination of relevant sales and accounting records, and original source documents provided by the respondents.⁶

⁶ See Memorandum, “Verification of the Cost Response of Bhiwadi Cylinders Private Limited and Sapphire (India) Private Limited,” dated February 8, 2024; Memorandum, “Verification of the Cost Response of Inox India Ltd.,” dated February 29, 2024; Memorandum, “Verification of the Sales Response of Inox India Limited,” dated March 11, 2024; and Memorandum, “Verification of the Sales Response of Bhiwadi Cylinders Private Limited and Sapphire (India) Private Limited,” dated March 12, 2024.

Analysis of Comments Received

All issues raised in the case and rebuttal briefs are addressed in the Issues and Decision Memorandum. A list of the issues that parties raised, and to which we responded in the Issues and Decision Memorandum, is attached to this notice in Appendix II.

Changes Since the Preliminary Determination

We made certain changes to the margin calculations for Bhiwadi/Sapphire and Inox since the Preliminary Determination. See the Issues and Decision Memorandum for a discussion of these changes.

All-Others Rate

Section 735(c)(5)(A) of the Act provides that the estimated weighted-average dumping margin for all other producers and exporters not individually investigated shall be equal to the weighted average of the estimated weighted-average dumping margins established for individually investigated exporters and producers, excluding rates that are zero, de minimis, or determined entirely under section 776 of the Act.

In this investigation, Commerce calculated a zero rate for Inox. Therefore, the only rate that is not zero, de minimis, or based entirely on facts otherwise available is the rate calculated for Bhiwadi/Sapphire. Consequently, the rate calculated for Bhiwadi/Sapphire is also assigned as the rate for all other producers and exporters.

Final Determination

The final estimated weighted-average dumping margins are listed below for the period October 1, 2021, through September 30, 2022:

Exporter/producer | Weighted-average dumping margin (percent) | Cash deposit rate (adjusted for subsidy offset(s)) (percent)
Bhiwadi Cylinders Private Limited; Sapphire (India) Private Limited | 6.27 | 4.13
Inox India Limited | 0.00 | 0.00
All Others | 6.27 | 4.13

Disclosure

Commerce intends to disclose the calculations performed in connection with this final determination to interested parties within five days of any public announcement or, if there is no public announcement, within five days of the date of publication of this final determination in the Federal Register, in accordance with 19 CFR 351.224(b).

Continuation of Suspension of Liquidation

In accordance with section 735(c)(1)(B) of the Act, Commerce will instruct U.S. Customs and Border Protection (CBP) to continue to suspend liquidation of all entries of cylinders from India, as described in Appendix I of this notice, which were entered or withdrawn from warehouse for consumption on or after December 1, 2023, the date of publication of the Preliminary Determination of this investigation in the Federal Register, with the exception of entries of subject merchandise that were produced and exported by Inox. Because the estimated weighted-average dumping margin for Inox is zero, entries of shipments of subject merchandise produced and exported by Inox will not be subject to suspension of liquidation or cash deposit requirements. In such situations, Commerce applies the exclusion to the provisional measures to the producer/exporter combination that was examined in the investigation. Accordingly, Commerce is directing CBP not to suspend liquidation of entries of merchandise produced and exported by Inox. However, entries of subject merchandise in any other producer/exporter combination, e.g., merchandise produced by a third party and exported by Inox or produced by Inox and exported by a third party, are subject to the cash deposit requirements at the all-others rate.

Furthermore, other than for entries produced and exported by Inox, pursuant to section 735(c)(1)(B)(ii) of the Act and 19 CFR 351.210(d), upon the publication of this notice, we will instruct CBP to require a cash deposit for estimated antidumping duties for such entries of merchandise as follows: (1) the cash deposit rate for the respondents listed in the table above will be equal to the company-specific estimated weighted-average dumping margin determined in this final determination; (2) if the exporter is not a respondent identified above, but the producer is, then the cash deposit rate will be equal to the company-specific estimated weighted-average dumping margin established for that producer of the subject merchandise; and (3) the cash deposit rate for all other producers and exporters will be equal to the all-others estimated weighted-average dumping margin listed in the table above.

Commerce normally adjusts cash deposits for estimated antidumping duties by the amount of export subsidies countervailed in a companion countervailing duty (CVD) proceeding, when CVD provisional measures are in effect. Accordingly, where Commerce made an affirmative determination for countervailable export subsidies, Commerce has offset the estimated weighted-average dumping margin by the appropriate CVD rate. Any such adjusted cash deposit rate may be found in the “Final Determination” section above.

Should provisional measures in the companion CVD investigation expire prior to the expiration of provisional measures in this LTFV investigation, Commerce will direct CBP to begin collecting estimated antidumping duty cash deposits unadjusted for countervailed export subsidies at the time that the provisional CVD measures expire.

These suspension of liquidation instructions will remain in effect until further notice.

U.S. International Trade Commission Notification

In accordance with section 735(d) of the Act, Commerce will notify the U.S. International Trade Commission (ITC) of its final affirmative determination of sales at LTFV. Because the final determination in this investigation is affirmative, in accordance with section 735(b)(2) of the Act, the ITC will make its final determination as to whether the domestic industry in the United States is materially injured or threatened with material injury by reason of imports of cylinders from India no later than 45 days after our final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered or withdrawn from warehouse for consumption on or after the effective date of the suspension of liquidation, as discussed in the “Continuation of Suspension of Liquidation” section.

Administrative Protective Order

This notice also serves as a reminder to parties subject to an administrative protective order (APO) of their responsibility concerning the return or destruction of proprietary information disclosed under APO in accordance with 19 CFR 351.305(a)(3). Timely written notification of the return or destruction of APO materials, or conversion to judicial protective order, is hereby requested. Failure to comply with the regulations and terms of an APO is a violation which is subject to sanction.

Notification to Interested Parties

This determination is issued and published in accordance with sections 735(d) and 777(i)(1) of the Act and 19 CFR 351.210(c).

Dated: April 15, 2024.
Ryan Majerus,
Deputy Assistant Secretary for Policy and Negotiations, performing the non-exclusive functions and duties of the Assistant Secretary for Enforcement and Compliance.

Appendix I—Scope of the Investigation

The merchandise covered by this investigation is certain seamed (welded or brazed), non-refillable steel cylinders meeting the requirements of, or produced to meet the requirements of, U.S. Department of Transportation specification 39, TransportCanada specification 39M, or United Nations pressure receptacle standard ISO 11118 and otherwise meeting the description provided below (non-refillable steel cylinders). The subject non-refillable steel cylinders are portable and range from 100-cubic inch (1.6 liter) water capacity to 1,526-cubic inch (25 liter) water capacity. Subject non-refillable steel cylinders may be imported with or without a valve and/or pressure release device and are unfilled at the time of importation. Non-refillable steel cylinders filled with pressurized air otherwise meeting the physical description above are covered by this investigation.

Specifically excluded are seamless non-refillable steel cylinders.

The merchandise subject to this investigation is properly classified under statistical reporting numbers 7311.00.0060 and 7311.00.0090 of the Harmonized Tariff Schedule of the United States (HTSUS). The merchandise may also enter under HTSUS statistical reporting numbers 7310.29.0030 and 7310.29.0065. Although the HTSUS statistical reporting numbers are provided for convenience and customs purposes, the written description of the merchandise is dispositive.

Appendix II—List of Topics Discussed in the Issues and Decision Memorandum

I. Summary

II. Background

III. Scope of the Investigation

IV. Changes Since the Preliminary Determination

V. Discussion of the Issues

Comment 1: Whether to Apply Adverse Facts Available to Bhiwadi/Sapphire

Comment 2: Whether to Adjust Bhiwadi/Sapphire's Export Prices for Average Annual Warranty Expenses

Comment 3: Whether to Adjust Bhiwadi/Sapphire's Financial Expense Ratio

Comment 4: Whether Certain of Bhiwadi/Sapphire's Cost Reallocations Should be Reversed

Comment 5: Whether to Include the Purchase Cost of Semi-Finished Cylinders in Bhiwadi/Sapphire's Cost of Manufacturing (COM)

Comment 6: Whether to Adjust Bhiwadi/Sapphire's Reported Costs for Freight Inward and Loading and Unloading Expenses

Comment 7: Whether to Make Certain Revisions to SIPL's Reported COM

Comment 8: Whether to Remove Raw Material Offsets Related to Profit Earned on Sales of Raw Materials Between BCPL and SIPL

Comment 9: Whether Inox's Cost Reconciliation is Misstated for both the Merchandise Under Consideration (MUC) and Non-MUC

Comment 10: Whether Inox's Direct Material Costs Are Unreconciled and Unsupported by Record Evidence

Comment 11: Whether Inox Understated its Reported Direct Material Costs

Comment 12: Whether Commerce Should Revise Inox's Scrap Offset

Comment 13: Whether Commerce Should Revise Inox's General and Administrative Expense Ratio

VI. Recommendation

[FR Doc. 2024-08450 Filed 4-19-24; 8:45 am]

BILLING CODE 3510-DS-P